FEDERAL COMMUNICATIONS COMMISSION

47 CFR Part 73

Radio Broadcast Services

CFR Correction

In Title 47 of the Code of Federal Regulations, parts 70 to 79, revised as of Oct. 1, 2003, § 73.202(b), the Table of FM Allotments is corrected as follows:

1. Under Alaska by adding Channel 231C2 at Sterling;

2. Under Florida by adding Channel 261A at Cedar Key; and

3. Under Illinois by adding an entry for St. Anne, Channel 293A.

[FR Doc. 04-55506 Filed 4-26-04; 8:45 am]

BILLING CODE 1505-01-D